DEPARTMENT OF ENERGY

Federal Energy Regulatory Commission

[Project No. 10615-058]

Tower Kleber Limited Partnership; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 10615-058.

c. Date filed: April 28, 2022.

d. Applicant: Tower Kleber Limited Partnership.

e. Name of Project: Tower and Kleber Hydroelectric Project.

f. Location: On the Upper Black River in the Forest and Waverly Townships of Cheboygan County, Michigan. The project does not occupy any federal lands.

g. Filed Pursuant to: Federal Power Act 16 U.S.C. 791(a)-825(r).

h. Applicant Contact: Nelson Turcotte, Tower Kleber Limited Partnership, 764 Lexington Crescent Road, Thunder Bay, Ontario, Canada P7B 7B8; (807) 633-3362.

i. FERC Contact: Lee Emery (202) 502-8379, or email at lee.emery@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 27, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-10615-058.

m. The application is not ready for environmental analysis at this time.

n. The Tower and Kleber Hydroelectric Project consists of two developments. The Tower Development includes the following existing facilities: (1) An 83-acre reservoir with a gross storage capacity of 440 acre feet at a normal maximum water surface elevation of 722.1 feet National Geodetic Vertical Datum of 1929 (NGVD29); (2) a spillway with a Tainter gate; (3) a spillway with a vertical lift gate; (4) an uncontrolled spillway; (5) a concrete gravity non-overflow dam; (6) an earthen embankment with a concrete core wall; (7) a powerhouse with an integral concrete intake; (8) two 280-kilowatt (kW) turbine/generator units; (9) a 2.4-kilovolt (kV) transmission line; (10) a 2.4-kV to 12.5-kV step up transformer; and (11) appurtenant facilities. The Kleber Development includes the following existing facilities: (1) A 267-acre reservoir with a gross storage capacity of 3,000 acre feet at a normal maximum water surface elevation of 701.1 feet NGVD29; (2) an earthen embankment; (3) a spillway with a Tainter gate; (4) an emergency spillway, (5) an integral concrete intake; (6) two penstocks; (7) a powerhouse; (8) two 600-kW turbine/generator units; (9) a 2.4-kV transmission line; (10) a 2.4-kV to 12.5-kV step up transformer; and (11) appurtenant facilities. Both developments are operated in a run-of-river mode. The project has a total rated capacity of 1.760 megawatts.

o. A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—July 2022

Request Additional Information (if necessary)—July 2022

Issue Scoping Document 1 for comments—November 2022

Issue Scoping Document 2—(if necessary) January 2023

Issue Notice of Ready for Environmental Analysis—February 2023

Final amendments to the application must be filed with the Commission no later than 30 days from the issuance date of the notice of ready for environmental analysis.

Dated: May 4, 2022.
Kimberly D. Bose,
Secretary.

[FR Doc. 2022-10000 Filed 5-9-22; 8:45 am]

BILLING CODE 6717-01-P